DEPARTMENT OF AGRICULTURE

Food and Nutrition Service

Agency Information Collection Activities: Proposed Collection; Comment Request—Information Collection for the School Breakfast Program

AGENCY: Food and Nutrition Service, USDA.

ACTION: Notice.

SUMMARY: In accordance with the Paperwork Reduction Act of 1995, this notice invites the general public and other public agencies to comment a proposed information collection. The proposed collection is an extension of a currently approved collection for the School Breakfast Program.

DATES: Written comments must be submitted by November 14, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments maybe sent to: Ms. Lynn Rodgers-Kuperman, Chief, Program Analysis and Monitoring Branch, Child Nutrition Division, Food and Nutrition Service, U.S. Department of Agriculture, 3101 Park Center Drive, Room 638, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 638, Alexandria, Virginia 22302.

All responses to this notice will be summarized and included in the request for OMB approval, and will become a matter of public record.

FOR FURTHER INFORMATION CONTACT: Request for additional information should be directed to: Ms. Lynn Rodgers-Kuperman at (703) 305-2590.

SUPPLEMENTARY INFORMATION: Title: School Breakfast Program.

OMB Number: 0584-0012.

Expiration Date: March 31, 2009.

Type of Request: Extension of a currently approved collection.

Abstract: Section 4 of the Child Nutrition Act (CNA) of 1966 (42 U.S.C. 1772) authorizes the School Breakfast Program. The School Breakfast Program is a nutrition assistance program whose benefit is a breakfast meeting nutritional requirements prescribed by the Department in accordance with Section 4(e) of the CNA. That provision requires that “Breakfast served by schools participating in the school breakfast program under this section shall consist of a combination of foods and shall meet minimum nutritional requirements prescribed by the Secretary on the basis of tested nutritional research.” The purpose of this Notice is to allow the public 60 days to comment on all reporting and recordkeeping burdens as indicated under the Estimated Total Annual Burden on Respondents below. The information being requested is required to administer and operate the program in accordance with the CNA. The program is administered at the state and school food authority levels, and the operations include the submission and approval of applications, execution of agreements, submission of claims, payment of claims, monitoring and providing technical assistance.

Affected Public: 57 State Agencies, 10,108 School Food Authorities, 72,145 Schools.

Estimated Number of Respondents: 82,310 respondents.

Estimated Number of Responses per Respondent: 15.

Estimated Total Annual Responses: 1,243,605.

Estimated Time per Response: .173 hours.

Estimated Total Reporting Annual Burden Hours: 213,594.

Number of Recordkeepers: 82,310.

Estimated Number of Responses per Respondent: 332.

Estimated Total Annual Responses: 27,326,920.

Estimated Time per Response: .17.

Estimated Total Annual Recordkeeping Burden Hours: 4,645,576.

Total Request Annual Reporting and Recordkeeping Burden Hours: 4,859,171.

Dated: September 9, 2008.
Jessica Shahin,
Acting Administrator, Food and Nutrition Service.

[FR Doc. E8-21439 Filed 9-12-08; 8:45 am]

BILLING CODE 3410-30-P